DEPARTMENT OF ENERGY

Federal Energy Regulatory Commission

[Docket Nos. AD22-11-000; AD21-9-000]

Office of Public Participation Fundamentals for Participating in FERC Matters; Supplemental Notice of Pre-Recorded Workshop: “Fundamentals of Intervention in FERC Matters”

Filing a Motion to Intervene or Intervention is the procedural pathway to becoming a party in a proceeding at Federal Energy Regulatory Commission (FERC). On October 25, 2023, Office of Public Participation (OPP) staff made publicly available the educational video of WorkshOPP: Fundamentals of Intervention in FERC Matters. This video is available on www.ferc.gov/OPP and on FERC's YouTube channel under OPP's Playlist at https://www.youtube.com/@FERC/playlists or at https://youtu.be/C-nkONjA4Mk. Spanish captioning is available on the video.

WorkshOPP: “Fundamentals of Intervention in FERC Matters” explains how and why a member of the public may choose to intervene in energy infrastructure projects (natural gas pipelines, liquefied natural gas (LNG) terminals, or hydroelectric dams) proceedings, and/or electric rates proceedings. Staff also addresses common questions about filing an intervention and demonstrate how to submit a Motion to Intervene using FERC online.

Dated: October 24, 2023.
Kimberly D. Bose,
Secretary.

[FR Doc. 2023-23909 Filed 10-27-23; 8:45 am]

BILLING CODE 6717-01-P